DEPARTMENT OF ENERGY

Federal Energy Regulatory Commission

[Docket Nos. ER18-459-000, ER18-460-000]

PJM Interconnection, L.L.C., Ohio Valley Electric Corporation; Notice Establishing Answer Period to Motion To Defer Effective Date

On February 26, 2018, PJM Interconnection, L.L.C. and Ohio Valley Electric Corporation (collectively, the Parties) filed a motion to defer the present March 1, 2018 effective date for the modifications to the Revised Tariff Sheets (Motion), accepted by the Commission on February 13, 2018, in this proceeding.¹ Also included in the filing was a request to shorten the answer period for the Motion to one day.

¹ PJM Interconnection, L.L.C. and Ohio Valley Electric Corp., 162 FERC ¶ 61,098 (2018).

By this notice, the Parties' request to shorten the date for filing answers to the Motion to one day is denied. Answers to the Motion shall be filed on or before March 5, 2018.

Dated: February 27, 2018.
Kimberly D. Bose,
Secretary.

[FR Doc. 2018-04457 Filed 3-5-18; 8:45 am]

BILLING CODE 6717-01-P